DEPARTMENT OF AGRICULTURE

Natural Resources Conservation Service

Lower Tillamook Bay Watershed Plan and Environmental Assessment, Tillamook, Oregon

AGENCY: Natural Resources Conservation Service, USDA.

ACTION: Notice of a Finding of No Significant Impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Lower Tillamook Bay Watershed Plan and Environmental Assessment, Tillamook, Oregon.

FOR FURTHER INFORMATION CONTACT: Bob Graham, State Conservationist, Natural Resources Conservation Service, 101 SW Main, Suite 1300, Portland, Oregon 97204, telephone 503-414-3200.

SUPPLEMENTARY INFORMATION: The environmental assessment of this federally assisted action indicates that the project will not cause significant local, regional, or national impacts on the environment. As a result of these findings, Bob Graham, State Conservationist, has determined that the preparation and review of an environmental impact statement is not needed for this project.

The project purpose is for watershed protection. The planned works of improvement include the development and implementation of conservation plans on approximately 60 dairies, 22 heifer replacement operations and 34 other livestock operations.

The Notice of a Finding of No Significant Impact (FONSI) has been forwarded to the Environmental Protection Agency and to various Federal, State and local agencies and interested parties. A limited number of copies of the FONSI are available to fill single copy requests at the above address. Basic data developed during the environmental assessment are on file and may be reviewed by contacting Terry Nelson, NRCS, 503-414-3014.

No administrative action on implementation of the proposal will be taken until 30 days after the date of this publication in the Federal Register.

(This activity is listed in the Catalog of Federal Domestic Assistance under No. 10.904, Watershed Protection and Flood Prevention, and is subject to the provisions of Executive Order 12372, which requires intergovernmental consultation with State and local officials.)

Dated: April 27, 2001
Bob Graham,
State Conservationist.

[FR Doc. 01-12862 Filed 5-21-01; 8:45 am]

BILLING CODE 3410-16-U